DEPARTMENT OF TRANSPORTATION

Federal Aviation Administration

14 CFR Part 97

[Docket No. 31418; Amdt. No. 3999]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPS) and associated Takeoff Minimums and Obstacle Departure procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is March 14, 2022. The compliance date for each SIAP, associated Takeoff Minimums, and ODP is specified in the amendatory provisions.

The incorporation by reference of certain publications listed in the regulations is approved by the Director of the Federal Register as of March 14, 2022.

ADDRESSES: Availability of matters incorporated by reference in the amendment is as follows:

For Examination

1. U.S. Department of Transportation, Docket Ops-M30. 1200 New Jersey Avenue SE, West Bldg., Ground Floor, Washington, DC 20590-0001.

2. The FAA Air Traffic Organization Service Area in which the affected airport is located;

3. The office of Aeronautical Information Services, 6500 South MacArthur Blvd., Oklahoma City, OK 73169 or,

4. The National Archives and Records Administration (NARA). For information on the availability of this material at NARA, email fr.inspection@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone (405) 954-4164.

SUPPLEMENTARY INFORMATION: This rule amends 14 CFR part 97 by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA Forms 8260-3, 8260-4, 8260-5, 8260-15A, 8260-15B, when required by an entry on 8260-15A, and 8260-15C.

The large number of SIAPs, Takeoff Minimums and ODPs, their complex nature, and the need for a special format make publication in the Federal Register expensive and impractical. Further, airmen do not use the regulatory text of the SIAPs, Takeoff Minimums or ODPs, but instead refer to their graphic depiction on charts printed by publishers or aeronautical materials. Thus, the advantages of incorporation by reference are realized and publication of the complete description of each SIAP, Takeoff Minimums and ODP listed on FAA form documents is unnecessary. This amendment provides the affected CFR sections and specifies the typed of SIAPS, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPs as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flights safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

Lists of Subjects in 14 CFR Part 97

Air traffic control, Airports, Incorporation by reference, Navigation (air).

Issued in Washington, DC, on March 4, 2022.
Thomas J. Nichols,
Aviation Safety, Flight Standards Service, Manager, Standards Section, Flight Procedures & Airspace Group, Flight Technologies & Procedures Division.

Adoption of the Amendment

Accordingly, pursuant to the authority delegated to me, Title 14, Code of Federal Regulations, Part 97 (14 CRF part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 21 April 2022

Milwaukee, WI, KMWC, RNAV (GPS) RWY 4L, Orig-E

Effective 19 May 2022

Fort Smith, AR, KFSM, ILS OR LOC RWY 8, Amdt 1B

Fort Smith, AR, KFSM, ILS Z OR LOC Z RWY 26, Amdt 22A

Fort Smith, AR, KFSM, RADAR-1, Amdt 8F

Fort Smith, AR, KFSM, RNAV (GPS) RWY 2, Amdt 2C

Fort Smith, AR, KFSM, RNAV (GPS) RWY 8, Amdt 1C

Fort Smith, AR, KFSM, RNAV (GPS) RWY 26, Amdt 1C

Fort Smith, AR, Fort Smith Rgnl, Takeoff Minimums and Obstacle DP, Amdt 4B

Fort Smith, AR, KFSM, VOR Z OR TACAN Z RWY 8, Amdt 11F

Fort Smith, AR, KFSM, VOR Z OR TACAN Z RWY 26, Amdt 20K

Casa Grande, AZ, KCGZ, RNAV (GPS) RWY 23, Amdt 1

Paso Robles, CA, KPRB, PASO ROBLES TWO GRAPHIC DP

Paso Robles, CA, KPRB, Takeoff Minimums and Obstacle DP, Amdt 2A

San Francisco, CA, KSFO, ILS OR LOC RWY 28R, ILS RWY 28R (SA CAT I), ILS

RWY 28R (CAT II), ILS RWY 28R (CAT III), Amdt 15B

Granby, CO, KGNB, RNAV (GPS)-C, Orig

Holyoke, CO, KHEQ, RNAV (GPS) RWY 32, Orig-F

Jekyll Island, GA, 09J, RNAV (GPS) RWY 36, Amdt 1B, CANCELLED

Mountain Home, ID, U76, ALKAL ONE GRAPHIC DP

Mountain Home, ID, U76, RNAV (GPS) RWY 10, Orig

Mountain Home, ID, U76, RNAV (GPS) RWY 28, Amdt 2

Mountain Home, ID, U76, Takeoff Minimums and Obstacle DP, Amdt 6

Mount Vernon, IL, KMVN, ILS OR LOC RWY 23, Amdt 12A

Indianapolis, IN, KTYQ, RNAV (GPS) RWY 18, Amdt 1D

Indianapolis, IN, KTYQ, VOR RWY 18, Amdt 1E

Lafayette, IN, KLAF, ILS OR LOC RWY 10, Amdt 11D

Logansport, IN, KGGP, VOR-A, Amdt 7B, CANCELLED

Peru, IN, I76, VOR RWY 1, Amdt 8E, CANCELLED

Sheridan, IN, 5I4, RNAV (GPS) RWY 23, Amdt 1

Sheridan, IN, 5I4, VOR-A, Amdt 6B, CANCELLED

Marion, KY, KGDA, Takeoff Minimums and Obstacle DP, Amdt 2

Lafayette, LA, KLFT, RADAR 1, Amdt 11, CANCELLED

Lake Charles, LA, KLCH, LOC BC RWY 33, Amdt 20A, CANCELLED

Bedford, MA, Laurence G Hanscom FLD, Takeoff Minimums and Obstacle DP, Amdt 6A

Rangeley, ME, 8B0, RNAV (GPS) RWY 14, Orig

Rangeley, ME, 8B0, RNAV (GPS) RWY 32, Orig

Cheboygan, MI, KSLH, RNAV (GPS) RWY 10, Amdt 3D

Detroit, MI, KYIP, ILS OR LOC RWY 5, Orig

Detroit, MI, KYIP, ILS OR LOC RWY 5R, Amdt 16, CANCELLED

Detroit, MI, KYIP, ILS OR LOC RWY 23, Orig

Detroit, MI, KYIP, ILS OR LOC RWY 23L, Amdt 8, CANCELLED

Detroit, MI, KYIP, RNAV (GPS) RWY 5, Orig

Detroit, MI, KYIP, RNAV (GPS) RWY 5R, Amdt 2, CANCELLED

Detroit, MI, KYIP, RNAV (GPS) RWY 23, Orig

Detroit, MI, KYIP, RNAV (GPS) RWY 23L, Amdt 2, CANCELLED

Detroit, MI, Willow Run, Takeoff Minimums and Obstacle DP, Amdt 11

Troy, MI, KVLL, RNAV (GPS) RWY 10, Amdt 3A

Troy, MI, KVLL, Takeoff Minimums and Obstacle DP, Amdt 4B

Appleton, MN, AQP, Takeoff Minimums and Obstacle DP, Orig-B

Camdenton, MO, KOZS, Takeoff Minimums and Obstacle DP, Amdt 3

Bozeman, MT, KBZN, ILS OR LOC RWY 12, Amdt 9D

Plentywood, MT, KPWD, RNAV (GPS) RWY 12, Orig-D

Plentywood, MT, KPWD, RNAV (GPS) RWY 30, Orig-D

Fayetteville, NC, Fayetteville Rgnl/Grannis Field, Takeoff Minimums and Obstacle DP, Orig-A

Binghamton, NY, KBGM, ILS OR LOC RWY 16, Amdt 8

East Hampton, NY, KHTO, RNAV (GPS) X RWY 10, Amdt 1A, CANCELLED

East Hampton, NY, KHTO, RNAV (GPS) Y RWY 10, Amdt 1, CANCELLED

East Hampton, NY, KHTO, RNAV (GPS) Y RWY 28, Amdt 2, CANCELLED

East Hampton, NY, KHTO, RNAV (GPS) Z RWY 10, Amdt 1A, CANCELLED

East Hampton, NY, KHTO, RNAV (GPS) Z RWY 28, Amdt 1, CANCELLED

East Hampton, NY, East Hampton, Takeoff Minimums and Obstacle DP, Amdt 3A, CANCELLED

Skaneateles, NY, 6B9, RNAV (GPS)-B, Orig-A

Oklahoma City, OK, KOKC, RNAV (GPS) RWY 13, Amdt 3D

Oklahoma City, OK, KOKC, RNAV (GPS) Y RWY 17L, Amdt 3D

Oklahoma City, OK, KOKC, RNAV (GPS) Y RWY 17R, Amdt 6A

Oklahoma City, OK, KPWA, ILS OR LOC RWY 35R, Amdt 1

Oklahoma City, OK, KPWA, RNAV (GPS) RWY 17L, Amdt 2B

Oklahoma City, OK, KPWA, RNAV (GPS) RWY 17R, Orig-A

Oklahoma City, OK, KPWA, RNAV (GPS) RWY 35L, Orig-A

Oklahoma City, OK, KPWA, RNAV (GPS) RWY 35R, Amdt 1

Stillwater, OK, KSWO, ILS OR LOC RWY 17, Amdt 3

Stillwater, OK, KSWO, RNAV (GPS) RWY 35, Amdt 1C

Sumter, SC, KSMS, NDB RWY 23, Amdt 3A, CANCELLED

Gettysburg, SD, 0D8, RNAV (GPS) RWY 13, Amdt 2C

Gettysburg, SD, 0D8, RNAV (GPS) RWY 31, Amdt 2C

Springfield, TN, M91, RNAV (GPS) RWY 4, Amdt 1D

Springfield, TN, M91, RNAV (GPS) RWY 22, Amdt 1D

Coleman, TX, KCOM, RNAV (GPS) RWY 15, Amdt 1B

Corsicana, TX, KCRS, NDB RWY 32, Amdt 3D, CANCELLED

Houston, TX, KIAH, RNAV (RNP) Y RWY 26L, Orig-E

Midland, TX, KMDD, VOR RWY 25, Amdt 3E

Salt Lake City, UT, KSLC, LDA RWY 35, Orig-D

Salt Lake City, UT, KSLC, RNAV (GPS) RWY 35, Amdt 3B

Bellingham, WA, KBLI, RNAV (RNP) Z RWY 34, Amdt 1B

Spokane, WA, KGEG, VOR RWY 21, Orig

Rescinded: On February 23, 2022 (87 FR 10069), the FAA published an Amendment in Docket No. 31413, Amdt No. 3995, to Part 97 of the Federal Aviation Regulations under section 97.29. The following entry for Binghamton, NY, effective March 24, 2022, is hereby rescinded in its entirety:

Binghamton, NY, KBGM, ILS OR LOC RWY 16, Amdt 8

[FR Doc. 2022-05280 Filed 3-11-22; 8:45 am]

BILLING CODE 4910-13-P